OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 6.6 and 213.103.

FOR FURTHER INFORMATION CONTACT: C. Penn, Group Manager, Executive Resources Services Group, Center for Human Resources, Division for Human Capital Leadership and Merit System Accountability, 202-606-2246.

SUPPLEMENTARY INFORMATION: Appearing in the listing below are the individual authorities established under Schedules A, B, and C between June 1, 2007, and June 30, 2007. Future notices will be published on the fourth Tuesday of each month, or as soon as possible thereafter. A consolidated listing of all authorities as of June 30 is published each year.

Schedule A

No Schedule A appointments were approved for June 2007.

Schedule B

No Schedule B appointments were approved for June 2007.

Schedule C

The following Schedule C appointments were approved during June 2007:

Section 213.3303 Executive Office of the President

Office of Management and Budget

BOGS70010 Confidential Assistant to the Deputy Director Office of Management and Budget. Effective June 01, 2007.

BOGS70013 Director of Operations to the Director Office of Management and Budget. Effective June 13, 2007.

BOGS70015 Confidential Assistant to the Associate Director for National Security Programs. Effective June 28, 2007.

Office of National Drug Control Policy

QQGS70011 Confidential Assistant to the Director. Effective June 08, 2007.

QQGS70010 Legislative Analyst to the Associate Director Office of Legislative Affairs. Effective June 12, 2007.

Section 213.3304 Department of State

DSGS61230 Staff Assistant to the Assistant Secretary, Bureau of Educational and Cultural Affairs. Effective June 01, 2007.

DSGS61236 Special Assistant to the Women's Human Rights Coordinator. Effective June 01, 2007.

DSGS61233 Foreign Affairs Officer to the Assistant Secretary for Western Hemispheric Affairs. Effective June 06, 2007.

DSGS61234 Public Affairs Specialist to the Director. Effective June 06, 2007.

DSGS61237 Deputy Chief of Staff to the Secretary of State. Effective June 07, 2007.

DSGS61239 Staff Assistant to the Counselor. Effective June 20, 2007.

DSGS61225 Legislative Management Officer to the Assistant Secretary for Legislative and Intergovernmental Affairs. Effective June 22, 2007.

DSGS61229 Protocol Assistant to the Deputy Chief of Protocol. Effective June 22, 2007.

DSGS61235 Public Affairs Specialist to the Assistant Secretary for Public Affairs. Effective June 22, 2007.

DSGS61224 Legislative Management Officer to the Assistant Secretary for Legislative and Intergovernmental Affairs. Effective June 27, 2007.

DSGS61238 Program Officer to the Assistant Secretary for Public Affairs. Effective June 27, 2007.

Section 213.3305 Department of the Treasury

DYGS60139 Director of Scheduling to the Chief of Staff. Effective June 22, 2007.

Section 213.3306 Department of Defense

DDGS17049 Confidential Assistant to the Deputy Under Secretary of Defense (Acquisition and Technology). Effective June 01, 2007.

DDGS17046 Public Affairs Analyst to the Assistant Secretary of Defense Public Affairs. Effective June 11, 2007.

DDGS17044 Special Assistant to the Under Secretary of Defense (Comptroller). Effective June 13, 2007.

DDGS17047 Special Assistant to the Assistant Secretary of Defense (Legislative Affairs). Effective June 13, 2007.

DDGS17048 Staff Assistant to the Principal Deputy Under Secretary of Defense for Policy. Effective June 13, 2007.

DDGS17051 Defense Fellow to the Special Assistant to the Secretary of Defense for White House Liaison. Effective June 20, 2007.

Section 213.3307 Department of the Army

DWGS00087 Special Assistant to the Principal Deputy Assistant Secretary of the Army (Financial Management and Comptroller). Effective June 28, 2007.

Section 213.3310 Department of Justice

DJGS00183 Counsel to the Counselor and Chief of Staff. Effective June 08, 2007.

DJGS00207 Special Assistant to the Director of the Violence Against Women Office. Effective June 11, 2007.

DJGS00078 Counsel to the Counselor and Chief of Staff. Effective June 15, 2007.

DJGS00325 Staff Assistant to the Assistant Attorney General (Legislative Affairs). Effective June 20, 2007.

DJGS00378 Special Assistant to the Director, Office of Public Affairs. Effective June 22, 2007.

Section 213.3311 Department of Homeland Security

DMGS00673 Special Assistant for Faith Based and Community Initiatives to the Director of Faith-Based and Community Initiatives. Effective June 06, 2007.

DMGS00676 Special Assistant to the Director, Bureau of Citizenship and Immigration Services. Effective June 06, 2007.

DMGS00665 Confidential Assistant to the Chief of Staff. Effective June 13, 2007.

DMGS00671 Coordinator for Local Affairs to the Assistant Secretary for Intergovernmental Programs. Effective June 13, 2007.

DMGS00672 Confidential Assistant to the Secretary to the Chief of Staff. Effective June 13, 2007.

DMGS00666 Counselor to the General Counsel. Effective June 15, 2007.

DMGS00674 Special Assistant, Office of International Affairs to the Chief of Staff. Effective June 15, 2007.

DMGS00678 Advisor to the Director for Congressional and Intergovernmental Affairs to the Director, Bureau of Citizenship and Immigration Services. Effective June 22, 2007.

DMOT00679 Special Assistant to the Assistant Secretary, Transportation Security Administration. Effective June 22, 2007.

DMGS00682 Special Assistant to the Executive Secretary. Effective June 28, 2007.

DMGS00683 Deputy Director of Scheduling and Protocol Coordinator to the Director of Scheduling and Advance. Effective June 28, 2007.

Section 213.3312 Department of the Interior

DIGS01093 White House Liaison to the Chief of Staff. Effective June 21, 2007.

DIGS01103 Special Assistant to the Director, External and Intergovernmental Affairs. Effective June 21, 2007.

DIGS70007 Special Assistant to the Director National Park Service. Effective June 22, 2007.

DIGS01104 Special Assistant for Alaskan Affairs to the Senior Adviser to the Secretary for Alaskan Affairs. Effective June 28, 2007.

Section 213.3313 Department of Agriculture

DAGS00899 Staff Assistant to the Under Secretary for Natural Resources and Environment. Effective June 01, 2007.

DAGS00906 Press Assistant to the Director of Communications. Effective June 14, 2007.

DAGS00900 Confidential Assistant to the Administrator, Foreign Agricultural Service. Effective June 18, 2007.

DAGS00907 Staff Assistant to the Administrator. Effective June 21, 2007.

DAGS00897 Deputy Director of Intergovernmental Affairs to the Assistant Secretary for Congressional Relations. Effective June 22, 2007.

DAGS00902 Deputy White House Liaison to the Secretary. Effective June 22, 2007.

DAGS00903 Advance Representative to the Director of Communications. Effective June 22, 2007.

DAGS00904 Director of Legislative Affairs to the Administrator, Foreign Agricultural Service. Effective June 22, 2007.

DAGS00905 Special Assistant to the Administrator to the Under Secretary for Marketing and Regulatory Programs. Effective June 22, 2007.

Section 213.3314 Department of Commerce

DCGS00460 Director of Intergovernmental Affairs to the Assistant Secretary for Legislative and Intergovernmental Affairs. Effective June 07, 2007.

DCGS60536 Speechwriter to the Director for Speechwriting. Effective June 08, 2007.

DCGS00339 Confidential Assistant to the Assistant Secretary for Legislative and Intergovernmental Affairs. Effective June 21, 2007.

DCGS00427 Senior Advisor to the Assistant Secretary for Export Enforcement. Effective June 21, 2007.

DCGS00521 Confidential Assistant to the Deputy Assistant Secretary for Domestic Operations. Effective June 21, 2007.

DCGS00608 Confidential Assistant to the Under Secretary for International Trade. Effective June 21, 2007.

DCGS00502 Deputy Director of Advance to the Director of Advance. Effective June 22, 2007.

Section 213.3315 Department of Labor

DLGS60144 Staff Assistant to the Director, 21st Century Office and Deputy Assistant Secretary for Intergovernmental Affairs. Effective June 01, 2007.

DLGS60086 Senior Advisor to the Wage and Hour Administrator. Effective June 06, 2007.

DLGS60209 Chief of Staff to the Assistant Secretary for Veterans Employment and Training. Effective June 06, 2007.

DLGS60269 Special Assistant to the Director of Scheduling. Effective June 06, 2007.

DLGS60041 Staff Assistant to the Executive Assistant to the Secretary. Effective June 27, 2007.

DLGS60249 Attorney Adviser to the Deputy Solicitor of Labor. Effective June 28, 2007.

Section 213.3316 Department of Health and Human Services

DHGS60060 Special Assistant to the Deputy for Policy and External Affairs. Effective June 13, 2007.

DHGS60545 Special Assistant to the Assistant Secretary, Health. Effective June 27, 2007.

DHGS60054 Special Assistant to the Assistant Secretary for Administration and Management. Effective June 29, 2007.

Section 213.3317 Department of Education

DBGS00618 Chief of Staff to the Assistant Deputy Secretary. Effective June 06, 2007.

DBGS00620 Special Assistant to the Assistant Secretary for Postsecondary Education. Effective June 06, 2007.

Section 213.3318 Environmental Protection Agency

EPGS07011 Associate Assistant Administrator/White House Liaison to the Assistant Administrator for Administration and Resources Management. Effective June 06, 2007.

EPGS07012 Advance Specialist to the Director of Advance. Effective June 15, 2007.

EPGS07010 Press Secretary to the Associate Administrator for Public Affairs. Effective June 22, 2007.

Section 213.3323 Federal Communications Commission

FCGS95448 Attorney Advisor (Legal Advisor) to the Chairman. Effective June 12, 2007.

Section 213.3325 United States Tax Court

JCGS60078 Trial Clerk to the Chief Judge. Effective June 07, 2007.

Section 213.3327 Department of Veterans Affairs

DVGS60084 Special Assistant to the Assistant Secretary for Congressional and Legislative Affairs. Effective June 22, 2007.

Section 213.3331 Department of Energy

DEGS00591 Special Assistant for Communication to the Chief Operating Officer for Energy Efficiency and Renewable Energy. Effective June 01, 2007.

DEGS00594 Senior Advisor for Public Affairs to the Director, Public Affairs (National Nuclear Security Administration). Effective June 06, 2007.

DEGS00596 Press Assistant to the Director, Public Affairs (National Nuclear Security Administration). Effective June 12, 2007.

DEGS00595 Speechwriter to the Director, Public Affairs. Effective June 14, 2007.

DEGS00598 Special Assistant to the Assistant Secretary for Policy and International Affairs. Effective June 15, 2007.

DEGS00597 Special Assistant to the Assistant Secretary for Congressional and Intergovernmental Affairs. Effective June 21, 2007.

DEGS00599 Assistant Press Secretary to the Director, Public Affairs. Effective June 28, 2007.

DEGS00600 Special Assistant to the Deputy Assistant Secretary for Natural Gas and Petroleum Technology. Effective June 28, 2007.

Section 213.3332 Small Business Administration

SBGS00615 Senior Advisor, Office of Performance Management to the Director of Performance Management. Effective June 06, 2007.

SBGS00616 Deputy Associate Administrator for Field Operations to the Associate Administrator for Field Operations. Effective June 06, 2007.

SBGS00617 Special Assistant to the Associate Administrator for Government Contracting and Business Development. Effective June 06, 2007.

Section 213.3333 Federal Deposit Insurance Corporation

FDOT00013 Special Counselor to the Chairman of the Board of Directors (Director). Effective June 28, 2007.

Section 213.3337 General Services Administration

GSGS60126 Deputy Associate Administrator for Communications to the Associate Administrator for Citizen Services and Communications. Effective June 20, 2007.

GSGS60089 Confidential Assistant to the Administrator. Effective June 25, 2007.

Section 213.3384 Department of Housing and Urban Development

DUGS60419 Speechwriter to the General Deputy Assistant Secretary for Public Affairs. Effective June 11, 2007.

Section 213.3394 Department of Transportation

DTGS60351 Counselor to the Deputy Secretary. Effective June 06, 2007.

Section 213.3396 National Transportation Safety Board

TBGS71538 Special Assistant to a Member. Effective June 01, 2007.

Authority: 5 U.S.C. 3301 and 3302; E.O. 10577, 3 CFR 1954-1958 Comp., p. 218.

U.S. Office of Personnel Management.
Tricia Hollis,
Chief of Staff.

[FR Doc. E7-15802 Filed 8-10-07; 8:45 am]

BILLING CODE 6325-39-P